DEPARTMENT OF TRANSPORTATION

Federal Aviation Administration

14 CFR Part 39

[Docket No. 2000-NM-109-AD; Amendment 39-11751; AD 2000-11-03]

RIN 2120-AA64

Airworthiness Directives; Dassault Model Falcon 2000, Mystere-Falcon 900, Falcon 900EX, Fan Jet Falcon, Mystere-Falcon 50, Mystere-Falcon 20, and Mystere-Falcon 200 Series Airplanes

AGENCY: Federal Aviation Administration, DOT.

ACTION: Final rule; request for comments.

SUMMARY: This amendment adopts a new airworthiness directive (AD) that is applicable to all Dassault Model Falcon 2000, Mystere-Falcon 900, Falcon 900EX, Fan Jet Falcon, Mystere-Falcon 50, Mystere-Falcon 20, and Mystere-Falcon 200 series airplanes. This action requires revising the Airplane Flight Manual to include speed limitations in the event of failure indications of the pitch feel system. These limitations are intended to mitigate severe pitch oscillations of the airplane.

DATES: Effective June 16, 2000.

The incorporation by reference of certain publications listed in the regulations is approved by the Director of the Federal Register as of June 16, 2000.

Comments for inclusion in the Rules Docket must be received on or before July 3, 2000.

ADDRESSES: Submit comments in triplicate to the Federal Aviation Administration (FAA), Transport Airplane Directorate, ANM-114, Attention: Rules Docket No. 2000-NM-109-AD, 1601 Lind Avenue, SW., Renton, Washington 98055-4056. Comments may be inspected at this location between 9 a.m. and 3 p.m., Monday through Friday, except Federal holidays. Comments may also be sent via the Internet using the following address: 9-anm-iarcomment@faa.gov. Comments sent via the Internet must contain “Docket No. 2000-NM-109-AD” in the subject line and need not be submitted in triplicate.

The service information referenced in this AD may be obtained from Dassault Falcon Jet, P.O. Box 2000, South Hackensack, New Jersey 07606. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: The Direction Générale de l'Aviation Civile (DGAC), which is the airworthiness authority for France, recently notified the FAA that an unsafe condition may exist on all Dassault Model Mystere-Falcon 900, Falcon 900EX, Fan Jet Falcon, Mystere-Falcon 50, Mystere-Falcon 20, and Mystere-Falcon 200 series airplanes. The DGAC advises that two Mystere-Falcon 900 series airplanes have experienced severe pitch oscillations during descent.

The exact cause of the pitch oscillation is unknown at this time, and is still under investigation. However, in one case, it was considered that failure of the pitch feel system may have contributed to the severity of the pitch oscillations. Since this system is similar in design to that of Dassault Model Falcon 2000, Falcon 900EX, Fan Jet Falcon, Mystere-Falcon 50, Mystere-Falcon 20, and Mystere-Falcon 200 series airplanes, these airplanes may be subject to the same unsafe condition revealed on the Mystere-Falcon 900 series airplanes.

Explanation of Relevant Service Information

Dassault Aviation has issued the following Airplane Flight Manual (AFM) Temporary Revisions and Temporary Changes:

• Temporary Revision 19, DTM589/590/591/592, Temporary Revision 19 DTM592, and Temporary Revision 11, DTM918, each dated October 27, 1999 (for Model Fan Jet Falcon series airplanes.)

• Temporary Change 20, DTM30528, dated October 27, 1999 (for Model Mystere-Falcon 20 series airplanes.)

• Temporary Change 29, DTM308A, dated October 27, 1999 (for Model Mystere-Falcon 200 series airplanes.)

• Temporary Change 50, DTM813, dated October 27, 1999 (for Model Mystere-Falcon 50 series airplanes.)

• Temporary Change 49, FM813EX, dated October 27, 1999 (for Model Mystere-Falcon 50EX series airplanes.)

• Temporary Change 80, DTM20103, and Temporary Change 4, FM900C, each dated October 27, 1999 (for Model Mystere-Falcon 900 series airplanes.)

• Temporary Change 46, DTM561, dated October 27, 1999 (for Model Falcon 900EX.)

Procedures described in the Temporary Revisions and Temporary Changes provide instructions to reduce the airspeed to 260 knots indicated airspeed or 0.76 mach indicated if the pitch feel system light (i.e., PITCH, AQ PITCH, AQ ROLL, PITCH FEEL, or Q UNIT) is illuminated. The DGAC classified these temporary revisions and temporary changes as mandatory and issued French airworthiness directives 1999-464-029(B), dated November 17, 1999, as revised by Erratum, dated December 15, 1999 (for Model Mystere-Falcon 50, Mystere-Falcon 900, and Falcon 900EX series airplanes); and 1999-467-026(B), dated November 17, 1999, as revised by Erratum, dated December 15, 1999 (for Model Fan Jet Falcon, Mystere-Falcon 20, and Mystere-Falcon 200 series airplanes); in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Interim Action

This is considered to be interim action until final action is identified, at which time the FAA may consider further rulemaking.

Explanation of Requirements of Rule

Since an unsafe condition has been identified that is likely to exist or develop on other airplanes of the same type design registered in the United States, this AD is being issued to provide the flight crew with speed limitations in the event of failure indications of the pitch feel system. These limitations are intended to mitigate severe pitch oscillations of the airplane. The actions are required to be accomplished in accordance with the AFM Temporary Revisions and Temporary Changes described previously, except as discussed below.

Explanation of Applicability

Operators should note that the applicability of this AD includes all Model Falcon 2000 series airplanes, whereas this airplane model is not included in the previously identified French airworthiness directives. Since Model Falcon 2000 series airplanes are similar in design to those airplanes identified in the French airworthiness directives, the FAA has determined that Model Falcon 2000 series airplanes may be subject to the same unsafe condition and, therefore, must be included in the applicability of this AD.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-109-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-11-03 Dassault Aviation: Amendment 39-11751. Docket 2000-NM-109-AD.

Applicability: All Model Falcon 2000, Mystere-Falcon 900, Falcon 900EX, Fan Jet Falcon, Mystere-Falcon 50, Mystere-Falcon 20, and Mystere-Falcon 200 series airplanes; certificated in any category.

Compliance: Required as indicated, unless accomplished previously.

To provide the flight crew with speed limitations, which are intended to mitigate severe pitch ocillations in the event of failure indications of the pitch feel system, accomplish the following:

Airplane Flight Manual (AFM) Revision

(a) Within 7 days after the effective date of this AD, revise the Limitations Section and Abnormal Procedures Section of the FAA-approved AFM, in accordance with paragraph (a)(1), (a)(2), (a)(3), (a)(4), (a)(5), (a)(6), (a)(7), or (a)(8), as applicable, of this AD.

(1) For Model Fan Jet Falcon series airplanes: Insert Dassault Aviation Temporary Revision 19, DTM589/590/591/592, Temporary Revision 19, DTM592, and Dassault Aviation Temporary Revision 11, DTM918, each dated October 27, 1999, into the AFM.

(2) For Model Mystere-Falcon 20 series airplanes: Insert Dassault Aviation Temporary Change 20, DTM30528, dated October 27, 1999, into the AFM.

(3) For Model Mystere-Falcon 200 series airplanes: Insert Dassault Aviation Temporary Change 29, DTM308A, dated October 27, 1999, into the AFM.

(4) For Model Mystere-Falcon 50 series airplanes: Insert Dassault Aviation Temporary Change 50, DTM813, dated October 27, 1999, into the AFM.

(5) For Model Mystere-Falcon 50EX series airplanes: Insert Dassault Aviation Temporary Change 49, FM813EX, dated October 27, 1999, into the AFM.

(6) For Model Mystere-Falcon 900 series airplanes: Insert Dassault Aviation Temporary Change 80, DTM20103, and Temporary Change 4, FM900C, each dated October 27, 1999, into the AFM.

(7) For Model Falcon 900EX series airplanes: Insert Dassault Aviation Temporary Change 46, DTM561, dated October 27, 1999, into the AFM.

(8) For Model Falcon 2000 series airplanes: Insert the following statement into the AFM. This may also be accomplished by inserting a copy of this AD into the AFM.

“If the PITCH FEEL warning light is on, reduce the airspeed to 260 KIAS or MI 0.76 max.”

Note 1: When the Temporary Changes and Temporary Revisions specified in paragraph (a) of this AD have been incorporated into the general revisions of the AFM, the general revisions may be inserted into the AFM, provided that the information contained in the general revisions is identical to that specified in the Temporary Changes and Temporary Revisions.

Alternative Methods of Compliance

(b) An alternative method of compliance or adjustment of the compliance time that provides an acceptable level of safety may be used if approved by the Manager, International Branch, ANM-116, FAA, Transport Airplane Directorate. Operators shall submit their requests through an appropriate FAA Principal Operations Inspector, who may add comments and then send it to the Manager, International Branch, ANM-116.

Note 2: Information concerning the existence of approved alternative methods of compliance with this AD, if any, may be obtained from the International Branch,

Special Flight Permits

(c) Special flight permits may be issued in accordance with sections 21.197 and 21.199 of the Federal Aviation Regulations (14 CFR 21.197 and 21.199) to operate the airplane to a location where the requirements of this AD can be accomplished.

Incorporation by Reference

(d) Except as provided by paragraph (a)(8) of this AD, the Airplane Flight Manual revisions shall be done in accordance with Dassault Aviation Temporary Revision 19, DTM589/590/591/592, dated October 27, 1999; Dassault Aviation Temporary Revision 19, DTM592, dated October 27, 1999; Dassault Aviation Temporary Revision 11, DTM918, dated October 27, 1999; Dassault Aviation Temporary Change 20, DTM30528, dated October 27, 1999; Dassault Aviation Temporary Change 29, DTM308A, dated October 27, 1999; Dassault Aviation Temporary Change 50, DTM813, dated October 27, 1999; Dassault Aviation Temporary Change 49, FM813EX, dated October 27, 1999; Dassault Aviation Temporary Change 80, DTM20103, dated October 27, 1999; Dassault Aviation Temporary Change 4, FM900C, dated October 27, 1999; and Dassault Aviation Temporary Change 46, DTM561, dated October 27, 1999; as applicable. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 3: The subject of this AD is addressed in French airworthiness directives 1999-464-029(B), dated November 17, 1999, as revised by Erratum, dated December 15, 1999; and 1999-467-026(B), dated November 17, 1999, as revised by Erratum, dated December 15, 1999.

(e) This amendment becomes effective on June 16, 2000.

Issued in Renton, Washington, on May 22, 2000.
Donald L. Riggin,
Acting Manager, Transport Airplane Directorate, Aircraft Certification Service.

[FR Doc. 00-13330 Filed 5-31-00; 8:45 am]

BILLING CODE 4910-13-P